DEPARTMENT OF AGRICULTURE

Forest Service

Directive Publication Notice

AGENCY: Forest Service, Agriculture (USDA).

ACTION: Notice.

SUMMARY: The Forest Service, U.S. Department of Agriculture, provides direction to employees through issuances in its Directive System, comprised of the Forest Service Manual and Forest Service Handbooks. The Agency must provide public notice of and opportunity to comment on any directives that formulate standards, criteria, or guidelines applicable to Forest Service programs. Once per quarter, the Agency provides advance notice of proposed and interim directives that will be made available for public comment during the next three months and notice of final directives issued in the last three months.

DATES: This notice identifies proposed and interim directives that will be published for public comment between April 1, 2022, and June 30, 2022; proposed and interim directives that were previously published for public comment but not yet finalized and issued; and final directives that have been issued since January 1, 2022.

ADDRESSES: Questions or comments may be provided by email to SM.FS.Directives@usda.gov or in writing to 201 14th Street SW, Washington, DC 20250, Attn: Directives and Regulations staff, Mailstop 1132.

FOR FURTHER INFORMATION CONTACT: Jay Lowe at 703-231-8079 or james.lowe@usda.gov.

Individuals who use telecommunications devices for the deaf or hard of hearing (TDD) may call the Federal Relay Service (FRS) at 800-877-8339 24 hours a day, every day of the year, including holidays.

You may register to receive email alerts at https://www.fs.usda.gov/about-agency/regulations-policies.

SUPPLEMENTARY INFORMATION:

Proposed and Interim Directives

Consistent with 16 U.S.C. 1612(a) and 36 CFR part 216, Public Notice and Comment for Standards, Criteria and Guidance Applicable to Forest Service Programs, the Forest Service publishes for public comment Agency directives that formulate standards, criteria, and guidelines applicable to Forest Service programs. Agency procedures for providing public notice and opportunity to comment are specified in Forest Service Handbook (FSH) 1109.12, Chapter 30, Providing Public Notice and Opportunity to Comment on Directives.

The following proposed directives are planned for publication for public comment from April 1, 2022, to June 30, 2022:

1. Forest Service Manual (FSM) 2000, National Forest System Monitoring Policy Development.

2. Forest Service Handbook (FSH) 5509.11, Title Claims, Sales, and Grants Handbook, Chapter 10, Title Claims & Encroachments.

The primary method of public outreach for this proposed directive is publication on the Forest Service website at https://www.fs.usda.gov/about-agency/regulations-policies, publication in the Federal Register, use of the GovDelivery email service, and other Agency communications resources, which may include a press release, blog post, or social media.

Previously Published Directives That Have Not Been Finalized

The following proposed and interim directives have been published for public comment but have not yet been finalized:

1. FSM 2200, Rangeland Management, Chapters Zero Code; 2210, Rangeland Management Planning; 2220, Management of Rangelands (Reserved); 2230, Grazing Permit System; 2240, Rangeland Improvements; 2250, Rangeland Management Cooperation; and 2270, Information Management and Reports; FSH 2209.13, Grazing Permit Administration Handbook, Chapters 10, Term Grazing Permits; 20, Grazing Agreements; 30, Temporary Grazing and Livestock Use Permits; 40, Livestock Use Permits; 50, Tribal Treaty Authorizations and Special Use Permits; 60, Records; 70, Compensation for Permittee Interests in Rangeland Improvements; 80, Grazing Fees; and 90, Rangeland Management Decision Making; and Forest Service Handbook 2209.16, Allotment Management Handbook, Chapter 10, Allotment Management and Administration.

2. Interim FSM 2719, Special Use Authorizations Involving Storage and Use of Explosives and Magazine Security, and FSH 2709.11, Special Uses Handbook, Chapter 50, Standard Forms and Supplemental Clauses.

3. FSM 3800, Landscape Scale Restoration Program.

4. FSM 7700, Travel Management, Chapters Zero and 10, Travel Planning.

Final Directives That Have Been Issued Since January 1, 2022

1. FSM 2400, Timber Management, Chapter 2420, Timber Appraisal; FSH 2409.19, Renewable Resources Handbook, Chapters 10, Knutson-Vandenberg Sale Area Program Management Handbook; 20, Knutson-Vandenberg Forest and Regional Program Management; 60, Stewardship Contracting; and 80, Good Neighbor Authority. The Forest Service requested comments on proposed amendments to several of its 2400 series directives pertaining to the sale and disposal of forest products. The amendments address changes in authorities, policies and direction designed to improve efficiencies and increase the pace of forest restoration and generally update outdated directives. The 60-day comment period for these directives began December 17, 2020, and closed February 16, 2021. A total of 13 comments were received and can be viewed at https://cara.fs2c.usda.gov/Public/ReadingRoom?project=ORMS-2747. The final directives were issued January 4, 2022, and can be viewed at the following websites: https://www.fs.fed.us/im/directives/fsh/2409.19/wo_2409.19_10-Amend%202022-1.docx. https://www.fs.fed.us/im/directives/fsh/2409.19/wo_2409.19_20-Amend%202022-2.docx. https://www.fs.fed.us/im/directives/fsh/2409.19/wo_2409.19_60-Amend%202022-3.docx. https://www.fs.fed.us/im/directives/fsh/2409.19/wo_2409.19_80-Amend%202022-4.docx. https://www.fs.fed.us/im/directives/fsm/2400/wo_2420-Amend%202022-1.docx.

2. Region 10 Supplement to FSM 2720, Special Uses; Management of Strictly Point-To-Point Commercial Transportation Under Special Use Authorization to National Forest System Lands within the Visitor Center Subunit of Mendenhall Glacier Recreation Area. The Alaska Region final directive supplement addresses challenges in managing strictly point-to-point commercial transportation to and from the Mendenhall Glacier Visitor Center (Visitor Center) during the cruise ship season (April-October). Visitation to the Visitor Center has increased to nearly 700,000 annual visitors as of 2018, with additional growth expected over the next several years. Existing facilities cannot accommodate the growing number of visitors. Increased use has affected resources and visitor safety and experiences. The final directive supplement allows the Alaska Region of the Forest Service to restrict strictly point-to-point commercial transportation to and from the Visitor Center during the cruise season. The final directive supplement will enhance the Alaska Region's management and enforcement of authorized point-to-point commercial transportation to and from the Visitor Center. The 60-day comment period for this directive began June 24, 2021, and closed August 28, 2021. Five comments were received, which can be viewed at https://cara.fs2c.usda.gov/Public/ReadingRoom?project=ORMS-2314. The final directive was issued January 13, 2022, and can be viewed at https://www.fs.fed.us/im/directives/field/r10/fsm/2700/R10%202720.docx.

3. FSM 2700, Special Uses Management, Chapter 40, Vegetation Management Pilot Projects, and FSH 2709.11, Special Uses Handbook, Chapter 50, Standard Forms and Supplemental Clauses. The Forest Service has issued this final directive, which implements section 8630 of the Agriculture Improvement Act of 2018 (Farm Bill). The Farm Bill created a voluntary pilot project program for removal of vegetation other than hazard trees near powerline rights-of-way on National Forest System (NFS) lands. The final directive establishes Agency procedures to enhance the reliability of the electric grid and reduce the threat of wildfire due to vegetation-related conditions adjacent to powerline facility rights-of-way. Approved vegetation management pilot projects will allow electric utilities to conduct voluntary vegetation management, other than removal of hazard trees, up to 150 feet from either side of a powerline facility right-of-way and for a total width of up to 200 feet. The 30-day comment period for this directive began December 10, 2020, and closed January 11, 2021. Four comments were received, which can be viewed at https://cara.ecosystem-management.org/Public/ReadingRoom?project=ORMS-2717. The final directive was issued February 10, 2022, and can be viewed at https://www.fs.fed.us/im/directives/fsm/2700/wo_2740-Amend%202022-1.docx.

4. FSH 2709.11, Special Uses Handbook, Chapter 80, Operating Plans and Agreements for Powerline Facilities. The Forest Service has issued this final directive, which implements section 512 of the Federal Land Policy and Management Act (FLPMA), as added by the Consolidated Appropriations Act of 2018. The final directive will help reduce threats of wildfire and enhance electric system reliability by establishing Agency procedures for development, review, and approval of proposed operating plans and agreements for vegetation management, inspection, and operation and maintenance of powerline facilities on NFS lands. The 30-day comment period for this directive began December 10, 2020, and closed January 11, 2021. Fourteen comments were received, which can be viewed at https://cara.ecosystem-management.org/Public/ReadingRoom?project=ORMS-2718. The final directive was issued February 10, 2022, and can be viewed at https://www.fs.fed.us/im/directives/fsh/2709.11/wo_2709.11_80-Amend%202022-1.docx.

Dated: April 4, 2022.
Amelia I. Steed,
Acting Deputy Director, Directives and Regulations, Strategic Planning, Budget, & Accountability.

[FR Doc. 2022-07523 Filed 4-7-22; 8:45 am]

BILLING CODE 3411-15-P